DEPARTMENT OF LABOR

Office of the Secretary

Agency Information Collection Activities; Submission for OMB Review; Comment Request; Peace Corps Volunteer Authorization for Examination and/or Treatment

ACTION: Notice of availability; request for comments.

SUMMARY: The Department of Labor (DOL) is submitting the Office of Workers' Compensation Programs (OWCP)-sponsored information collection request (ICR) proposal titled, “Peace Corps Volunteer Authorization for Examination and/or Treatment,” to the Office of Management and Budget (OMB) for review and approval for use in accordance with the Paperwork Reduction Act (PRA) of 1995. Public comments on the ICR are invited.

DATES: The OMB will consider all written comments that agency receives on or before February 20, 2020.

ADDRESSES: A copy of this ICR with applicable supporting documentation; including a description of the likely respondents, proposed frequency of response, and estimated total burden may be obtained free of charge from the RegInfo.gov website at http://www.reginfo.gov/public/do/PRAViewICR?ref_nbr=201907-1240-002 (this link will only become active on the day following publication of this notice) or by contacting Frederick Licari by telephone at 202-693-8073, TTY 202-693-8064, (this is not a toll-free number) or by email at DOL_PRA_PUBLIC@dol.gov.

Submit comments about this request by mail to the Office of Information and Regulatory Affairs, Attn: OMB Desk Officer for DOL-OWCP, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or by email at DOL_PRA_PUBLIC@dol.gov.

SUPPLEMENTARY INFORMATION: This ICR seeks PRA authority for the Peace Corps Volunteer Authorization for Examination and/or Treatment information collection. The Sam Farr and Nick Castle Peace Corps Reform Act of 2018 (Farr-Castle), modified various aspects of the Peace Corps, including changes to the provision of health care to volunteers. Entitlement to disability compensation payments does not commence until the day after the date of termination of service as a volunteer. Farr-Castle directs the Secretary of the Department of Labor to authorize the Director of the Peace Corps to furnish medical benefits to a volunteer, injured during the volunteer's period of service for a period of 120 days following the termination of such service, set forth in 5 U.S.C. 8142(c)(3)). In view of the provisions required by this bill, OWCP and the Peace Corps have collaborated to initiate a new form CA-15, Peace Corps Volunteer Authorization for Examination and/or Treatment. The form will authorize medical treatment for recently terminated Peace Corps volunteers who require medical treatment for injuries/exposure sustained in the performance of their volunteer service. Issuance of this form will solely be at the discretion of the Peace Corps and will bridge a gap between the occurrences of an initial injury, disease exposure ensuring that the recently terminated volunteers receive prompt medical care, immediately, for a period of 120 days following separation from service. Peace Corps Volunteers and the Federal Employees' Compensation Act authorize this information collection. See 5 U.S.C. 8142 and 5 U.S.C. 8101.

This proposed information collection is subject to the PRA. A Federal agency generally cannot conduct or sponsor a collection of information, and the public is generally not required to respond to an information collection, unless the OMB, under the PRA, approves it and displays a currently valid OMB control number. In addition, notwithstanding any other provisions of law, no person shall generally be subject to penalty for failing to comply with a collection of information if the collection of information does not display a valid OMB control number. See 5 CFR 1320.5(a) and 1320.6. For additional information, see the related notice published in the Federal Register on August 7, 2019 (84 FR 38671).

Interested parties are encouraged to send comments to the OMB, Office of Information and Regulatory Affairs at the address shown in the ADDRESSES section within thirty-(30) days of publication of this notice in the Federal Register. In order to help ensure appropriate consideration, comments should mention OMB ICR Reference Number 201907-1240-002. The OMB is particularly interested in comments that:

• Evaluate whether the proposed collection of information is necessary for the proper performance of the functions of the agency, including whether the information will have practical utility:

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Peace Corps Volunteer Authorization for Examination and/or Treatment.

Affected Public: Individuals or households.

Total Estimated Number of Respondents: 252.

Total Estimated Number of Responses: 252.

Total Estimated Annual Time Burden: 63 hours.

Total Estimated Annual Other Costs Burden: $146.

Authority: 44 U.S.C. 3507(a)(1)(D).

Dated: January 14, 2020.
Frederick Licari,
Departmental Clearance Officer.

[FR Doc. 2020-00848 Filed 1-17-20; 8:45 am]

BILLING CODE 4510-CH-P